OFFICE OF PERSONNEL MANAGEMENT

Privacy Act of 1974; Amendment to a System of Records

AGENCY: Office of Personnel Management (OPM).

ACTION: Notice to amend a system of records.

SUMMARY: OPM proposes to amend a system of records in its inventory of record systems subject to the Privacy Act of 1974 (5 U.S.C. 552a), as amended. This notice is required under the Privacy Act whenever an agency establishes or revises one of its systems of records (5 U.S.C. 552a(e)(4)).

DATES: This amendment will be effective without further notice April 26, 2000, unless comments are received that result in any changes.

ADDRESSES: Send written comments to Mary Beth Smith-Toomey, Office of the Chief Information Officer, Office of Personnel Management, 1900 E Street NW., Room 5415, Washington, DC 20415-7900.

FOR FURTHER INFORMATION CONTACT: Mary Beth Smith-Toomey, (202) 606-8358.

SUPPLEMENTARY INFORMATION: This notice updates OPM/Internal-3, Security Officer Control Files, by adding a database tracking system for investigative reports. This tracking system will provide data on pending and completed schedules, types of investigations, position sensitivity levels, clearances granted and issues developed.

U.S. Office of Personnel Management.
Janice R. Lachance
Director.

OPM/INTERNAL-3

System Name:

Security Officer Control Files

System Location:

U.S. Office of Personnel Management, Office of Contracting and Administrative Services, 1900 E Street NW., Washington, DC 20415-7100

Categories of Individuals Covered by the System:

This system contains records on active, inactive and pending OPM employees and contractors.

Categories of Records in the System:

The records in the system contain date of birth; social security number; classification as to position sensitivity; types and dates of investigations; investigative reports, including those from Federal law enforcement agencies, Department of Defense and internal inquiries; dates and levels of clearances; names of agencies and the reasons why they were provided clearance information on OPM employees and contractors.

Authority for Maintenance of the System Includes the Following with any Revisions or Amendments:

Executive Orders 10450 and 12958.

Purpose:

These records are used exclusively by OPM Security Officers and the employees of other security offices to assist them in controlling position sensitivity and personnel clearances.

Routine Uses of Records Maintained in the System, Including Categories of Users and the Purposes of Such Uses:

Routine uses 1, 3, 5 and 6, of the Prefatory Statement at the beginning of OPM's system notices (60 FR 63075, effective January 17, 1996) apply to the records maintained within the system. The routine uses listed below are specific to this system of records only.

a. To disclose information to an agency in the executive, legislative, or judicial branch, or the District of Columbia Government, in response to its request related to issuing a security clearance or conducting a security or suitability investigation of an individual. Only information that is relevant and necessary to the requesting agency's decision on the matter will be released.

b. To verify a security clearance in response to an inquiry from a security office of an agency in the executive legislative, or judicial branch, or the District of Columbia Government. Also, to provide OPM employees and contractors access to classified data or areas, when their official duties require such access.

Policies and Practices for Storing, Retrieving, Accessing, Retaining and Disposing of Records in the System:

Storage:

These records are maintained in file folders and in an automated data base.

Retrievability:

These records are retrieved by name, social security number, and date of birth of the individual on whom they are maintained.

Safeguards:

The disks and file folders are stored in fire-resistant safes contained within a secured area, in lockable metal file cabinets, or in secured rooms. The file folders do not leave the Security Office.

Retention and Disposal:

The Security Office automated data files are retained for five years after the individual leaves OPM. After five years the files are erased. The security folders are destroyed 90 days after the employee leave or contractor stop working for OPM.

System Manager(s) and Address:

Facility Services Division, Security Office, Office of Contracting and Administrative Services, Office of Personnel Management, 1900 E Street NW., Washington, DC 20415-7100.

Notification Procedure:

Individuals wishing to determine whether this system of records contains information about them should contact the system manager indicated. Individuals must furnish the following for their records to be located and identified:

a. Full name.

b. Date of birth.

c. Social security number.

Record Access Procedures: Individuals wishing to request access to records about them should contact the system manager indicated. Individuals must furnish the following for their records to be located and identified.

a. Full name.

b. Date of birth.

c. Social security number.

An individual requesting access must also follow the OPM's Privacy Act regulations regarding verification of identity and access to records (5 CFR part 297).

Note: Individuals must request access to background investigations through the Privacy Act regulations of the agency for which the investigation was conducted. Requests for background investigations maintained in the Security Office file will be denied.

Contesting Record Procedures:

Individuals wishing to request amendment of their records should contact the system manager indicated. Individuals must furnish the following for their records to be located and identified:

a. Full name.

b. Date of birth.

c. Social security number.

Individuals requesting amendment must also follow the OPM's Privacy Act regulations regarding verification of identity and amendment of records (5 CFR part 297).

Record Source Categories:

Information in this system of records is obtained from:

a. The individuals to whom the records applies.

b. OPM's investigative files maintained by Investigations Service.

c. Employment information maintained by OPM's Director of Personnel or regional personnel offices.

d. OPM Officials.

e. Federal law enforcement agencies, Department of Defense, and through external and internal inquiries.

[FR Doc. 00-6627 Filed 3-16-00; 8:45 am]

BILLING CODE 6325-01-P